DEPARTMENT OF DEFENSE

Office of the Secretary

[Docket ID: DOD-2012-OS-0062]

Privacy Act of 1974; System of Records

AGENCY: Defense Information Systems Agency, DoD.

ACTION: Notice to alter a system of records.

SUMMARY: The Defense Information Systems Agency proposes to alter a system of records in its existing inventory of record systems subject to the Privacy Act of 1974 (5 U.S.C. 552a), as amended.

DATES: The proposed action will be effective on July 11, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301) 225-8158.

SUPPLEMENTARY INFORMATION: The Defense Information Systems Agency notices for system of records subject to the Privacy Act of 1974 (5 U.S.C. 552a), as amended, have been published in the Federal Register and are available from the address in FOR FURTHER INFORMATION CONTACT.

The proposed system report, as required by 5 U.S.C. 552a(r) of the Privacy Act of 1974, as amended, was submitted on June 1, 2012, to the House Committee on Oversight and Government Reform, the Senate Committee on Governmental Affairs, and the Office of Management and Budget (OMB) pursuant to paragraph 4c of Appendix I of OMB Circular No. A-130, Federal Agency Responsibilities for Maintaining Records About Individuals,” dated February 8, 1996 (February 20, 1996, 61 FR 6427).

Dated: June 5, 2012.
Aaron Siegel,
Alternate OSD Federal Register Liaison Officer, Department of Defense.

K890.01

System name:

Freedom of Information Act File (FOIA), (March 10, 2008, 73 FR 12711)

Changes:

* * * * *

System location:

Delete entry and replace with “Primary location: General Counsel (GC) Headquarters, Defense Information Systems Agency (DISA), P.O. Box 549, Ft. Meade, MD 20755-0549.

Decentralized locations: DISA Field Activities World-wide. Official mailing addresses are published as an Appendix to DISA's compilation of systems of records notices.”

* * * * *

Categories of records in the system:

Delete entry and replace with “Log File which consists of a record of all written requests; names, addresses and phone numbers of individuals who requested information under the FOIA which had been processed within DISA since January 1, 1996. Correspondence received in DISA relating to FOIA, including replies thereto.”

Authority for maintenance of the system:

Delete entry and replace with “5 U.S.C. 552a, as amended by Pub. L. 93-502, Freedom of Information Act; and DOD Directive 5400.7-R, DoD Freedom of Information Act Program.”

* * * * *

Routine uses of records maintained in the system, including categories of users and the purposes of such uses:

Delete entry and replace with “In addition to those disclosures generally permitted under 5 U.S.C. 552a(b) of the Privacy Act of 1974, as amended, these records therein may specifically be disclosed outside the DoD as a routine use pursuant to 5 U.S.C. 552a(b)(3) as follows:

Department of Justice for review and in the event of judicial action.

The DoD “Blanket Routine Uses” set forth at the beginning of the DISA's compilation of systems of records notices apply to this system.”

* * * * *

Storage:

Delete entry and replace with “Records may be stored on paper and/or on electronic storage media.”

Retrievability:

Delete entry and replace with “Retrieved by name of the individual and/or the name of the individual who requested the information.”

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection. Paper records are stored in a locked file cabinet.”

Retention and disposal:

Delete entry and replace with “All records are retained by Office of General Counsel, Headquarters, DISA, for two years. Records pertaining to policy are permanent. Correspondence maintained for two years, then destroyed. Logs are kept until reference need expires.”

System manager(s) and address:

Delete entry and replace with “FOIA Officer, Headquarters, Defense Information Systems Agency (DISA), Code GC, P.O. Box 549, Ft. Meade, MD 20755-0549.”

Notification procedure:

Delete entry and replace with “Individuals seeking to determine whether information about themselves is contained in this system should address written inquiries to Defense Information Systems Agency, ATTN: Headquarters FOIA Requester Service Center, P.O. Box 549, Ft. Meade, MD 20755-0549.

Written requests should contain the individual's full name, individual's full name who is the subject of the record if different from the requester, current address and telephone number. All requests must be signed.”

Record access procedures:

Delete entry and replace with “Individuals seeking access to information about themselves contained in this system should address written inquiries to Defense Information Systems Agency, ATTN: Headquarters, FOIA Requester Service Center, P.O. Box 549, Ft. Meade, MD 20755-0549.

Written requests should contain the individual's full name, individual's full name who is the subject of the record if different from the requester, current address and telephone number. All requests must be signed.”

Contesting record procedures:

Delete entry and replace with “DISA's rules for accessing records and appealing initial agency determinations are published in DISA Instruction 630-225-8; 32 CFR part 316; or may be obtained from the system manager.”

* * * * *

[FR Doc. 2012-14013 Filed 6-8-12; 8:45 am]

BILLING CODE 5001-06-P